DEPARTMENT OF JUSTICE

Bureau of Justice Statistics

[OMB Number 1121-0292]

Agency Information Collection Activities; Proposed eCollection; eComments Requested; Revision of Currently Approved Collection: 2016 Survey of Sexual Victimization (SSV)

AGENCY: Bureau of Justice Statistics, Department of Justice.

ACTION: 30-day notice.

SUMMARY: Department of Justice (DOJ), Office of Justice Programs, Bureau of Justice Statistics, will be submitting the following information collection request to the Office of Management and Budget (OMB) for review and approval in accordance with the Paperwork Reduction Act of 1995. This proposed information collection was previously published in the Federal Register at 81 FR 87957, on December 6, 2016, allowing for a 60 day comment period. No comments were received.

DATES: Comments are encouraged and will be accepted for an additional 30 days until March 24, 2017.

FOR FURTHER INFORMATION CONTACT: If you have additional comments especially on the estimated public burden or associated response time, suggestions, or need a copy of the proposed information collection instrument with instructions or additional information, please contact Ramona Rantala, Statistician, Bureau of Justice Statistics, 810 Seventh Street NW., Washington, DC 20531 (email: Ramona.Rantala@usdoj.gov; telephone: 202-307-6170). Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Revision of a currently approved collection.

(2) Title of the Form/Collection: Survey of Sexual Victimization (formerly the Survey of Sexual Violence).

(3) Agency form number, if any, and the applicable component of the Department sponsoring the collection: Agency form numbers: SSV-1, SSV-2, SSV-3, SSV-4, SSV-5, SSV-6, SSV-IA, and SSV-IJ. Sponsoring component: Department of Justice, Bureau of Justice Statistics.

(4) Affected public who will be asked or required to respond, as well as a brief abstract: Primary: State, Local or Tribal Government. Other: Federal Government and business (privately operated correctional institutions, both for-profit and not-for-profit).

(5) An estimate of the total number of respondents and the amount of time estimated for an average respondent to respond/reply: An estimate of the total number of respondents is 1,574 adult and juvenile systems and facilities. (This estimate assumes a response rate of 100%.) Federal and state systems for adults and juveniles (102 respondents) will take an estimated 60 minutes to complete the summary form; local and privately operated facilities (1,472 respondents) will take an estimated 30 minutes to complete the summary form; and each incident form (we estimate about 2,310 incident forms will be completed, one for each incident that was substantiated) will take about 30 minutes. The burden estimates are based on data from the prior administration of the SSV.

(6) An estimate of the total public burden (in hours) associated with the collection: There are an estimated 1,993 total annual burden hours associated with this collection.

If additional information is required contact: Melody Braswell, Department Clearance Officer, United States Department of Justice, Justice Management Division, Policy and Planning Staff, Two Constitution Square, 145 N Street NE., Suite 3E.405B, Washington, DC 20530.

Melody Braswell,
Department Clearance Officer, PRA, U.S. Department of Justice.

[FR Doc. 2017-03442 Filed 2-21-17; 8:45 am]

BILLING CODE 4410-18-P